COMMITTEE FOR PURCHASE FROM PEOPLE WHO ARE BLIND OR SEVERELY DISABLED

Procurement List; Proposed additions

AGENCY: Committee for Purchase from People Who Are Blind or Severely Disabled.

ACTION: Proposed Additions to Procurement List.

SUMMARY: The Committee is proposing to add to the Procurement List products and services to be furnished by nonprofit agencies employing persons who are blind or have other severe disabilities.

Comments Must Be Received on or Before: May 6, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-ODay Act (41 U.S.C. 46-48c) in connection with the products and services proposed for addition to the Procurement List. Comments on this certification are invited.

Commenters should identify the statement(s) underlying the certification on which they are providing additional information.

The following products and services are proposed for addition to Procurement List for production by the nonprofit agencies listed:

Products

Product/NSN: Refillable Tape Dispenser with Tape (Matte Finish), 7520-00-NIB-1402.

NPA: The Lighthouse for the Blind in New Orleans, New Orleans, LA.

Contract Activity: Office Supplies & Paper Products Commodity Center, New York, NY.

Product/NSN: Refillable Tape Dispenser with Tape (Glossy Finish), 7520-00-NIB-1516.

NPA: The Lighthouse for the Blind in New Orleans, New Orleans, LA.

Contract Activity: Office Supplies & Paper Products Commodity Center, New York, NY.

Services

Service Type/Location: Janitorial/Custodial, FBI Information Technology Center, Fort Monmouth, NJ.

NPA: Monmouth Center for Vocational Rehabilitation, Eatontown, NJ.

Contract Activity: FBI Information Technology Center, Fort Monmouth, NJ.

Service Type/Location: Janitorial/Custodial, Naval and Marine Corps Reserve Center, Mobile, AL.

NPA: GWI Services, Inc., Mobile, AL.

Contract Activity: Naval Facilities Engineering Command, North Charleston, SC.

Sheryl D. Kennerly,
Director, Information Management.

[FR Doc. 02-8277 Filed 4-4-02; 8:45 am]

BILLING CODE 6353-01-P